DEPARTMENT OF VETERANS AFFAIRS

Enhanced-Use Lease Development of Property at the Department of Veterans Affairs Medical Center, Columbia, SC

AGENCY: Department of Veterans Affairs.

ACTION: Notice of intent to designate.

SUMMARY: The Secretary of the Department of Veterans Affairs (VA) intends to designate the VA Medical Center in Columbia, South Carolina, for an enhanced use development. The Department intends to enter into a long-time lease (up to 75 years) of real property with a competitively selected lessee/developer who will finance, design, develop, maintain and manage this project.

FOR FURTHER INFORMATION CONTACT: Edward Bradley, Office of Asset Enterprise Management (004B), Department of Veterans Affairs, 810 Vermont Avenue, NW., Washington, DC 20420, (202) 273-9489.

SUPPLEMENTARY INFORMATION: 38 U.S.C. 8161 et seq., specifically provides that the Secretary may enter into an enhanced-use lease, if he determines that: at least part of the property under the lease will be used to provide appropriate space for an activity contributing to the mission of the Department; the lease will not be inconsistent with and will not adversely affect the mission of the Department; and the lease will enhance the property or result in improved services to veterans. This project meets these requirements.

Approved: September 16, 2002.
Anthony J. Principi,
Secretary of Veterans Affairs.

[FR Doc. 02-24204 Filed 9-23-02; 8:45 am]

BILLING CODE 8302-01-M